DEPARTMENT OF ENERGY

Federal Energy Regulatory Commission

[Docket Nos. EC10-52-000; ES10-29-000; EL10-48-000]

Ameren Corporation, Illinois Power Company, Central Illinois Light Company, Central Illinois Public Service Company, Ameren Energy Resources Company, LLC, AmerenEnergy Resources Generating Company; Notice of Filing

March 18, 2010.

Take notice that on March 15, 2010, Ameren Corporation (Ameren), together with and on behalf of its directly or indirectly owned subsidiaries, filed pursuant to section 203(a) of the Federal Power Act (FPA) and Part 33 of the Regulations of the Federal Energy Regulatory Commission (Commission), 16 U.S.C. 824b(a) (2009); 18 CFR Part 33 (2009), section 305(a) of the FPA, 16 U.S.C. 825d(a) (2009), and section 204 of the FPA and Part 34 of the Commission's Regulations, 16 U.S.C. 824c (2009); 18 CFR Part 34 (2009), an application requesting the Commission to issue an order approving: (1) Its internal corporate reorganization (Reorganization Transaction) without modification, condition, or a trial-type hearing; (2) a declaratory order that the Reorganization Transaction is not barred under FPA section 305(a); (3) the limited securities issuances and assumption of liabilities; and (4) all other approvals and waivers as necessary for final Commission approval of the Reorganization Transaction by June 17, 2010.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 5, 2010.

Kimberly D. Bose,
Secretary.

[FR Doc. 2010-6572 Filed 3-24-10; 8:45 am]

BILLING CODE 6717-01-P